DEPARTMENT OF HEALTH AND HUMAN SERVICES

National Institutes of Health

Center for Scientific Review; Amended Notice of Meeting

Notice is hereby given of a change in the meeting of the Oncology 2—Translational Clinical Integrated Review Group, Molecular Cancer Diagnosis and Classification Study Section, May 01, 2025, 09:00 a.m. to May 02, 2025, 07:00 p.m., National Institutes of Health, Rockledge II, 6701 Rockledge Drive, Bethesda, MD 20892, which was published in the Federal Register on March 06, 2025, FR Doc. No. 2025-03580, 90 FR 11422.

This meeting is being amended to change the Scientific Review Officer Contact from Lawrence Ka-Yun Ng to Victor Panchenko, Ph.D., Center for Scientific Review, National Institutes of Health, 6701 Rockledge Drive, Bethesda, MD 20892, 301-867-5309. The meeting is closed to the public.

Dated: March 6, 2025.
Lauren A. Fleck,
Program Analyst, Office of Federal Advisory Committee Policy.

[FR Doc. 2025-03903 Filed 3-11-25; 8:45 am]

BILLING CODE 4140-01-P